DEPARTMENT OF THE INTERIOR

U.S. Geological Survey

Agency Information Collection Activity; National Cooperative Geologic Mapping Program (EDMAP and STATEMAP)

AGENCY: U.S. Geological Survey (USGS).

ACTION: Notice of a new information collection.

SUMMARY: To comply with the Paperwork Reduction Act of 1995 (PRA), we are notifying the public that we have submitted to the Office of Management and Budget (OMB) a new information collection request (ICR) for approval of the paperwork requirements for the National Cooperative Geologic Mapping Program (NCGMP). The NCGMP has two components: educational (EDMAP) and State (STATEMAP). This notice provides the public an opportunity to comment on the paperwork burden of the application requirements discussed below.

DATES: You must submit comments on or before May 21, 2009.

ADDRESSES: Please submit comments on this information collection directly to the Office of Management and Budget, Office of Information and Regulatory Affairs, Attention: Desk Officer for the Department of the Interior, via e-mail [OIRA_DOCKET@omb.eop.gov] or fax (202) 395-5806; and identify your submission as 1028-NEW. Please also submit a copy of your comments to Phadrea Ponds, USGS Information Collection Clearance Officer, 2150-C Center Avenue, Fort Collins, CO 80525 (mail); (970) 226-9230 (fax); or pponds@usgs.gov (e-mail). Please reference Information Collection 1028-NEW, NCGMP in the subject line.

FOR FURTHER INFORMATION PLEASE CONTACT: To request additional information about this ICR, contact Randall Orndorff, Associate Program Coordinator (STATEMAP and EDMAP), National Cooperative Geological Mapping Program, U.S. Geological Survey, 12201 Sunrise Valley Drive, MS 908, Reston, VA 20192 (mail); at 703-648-4316 (telephone); or rorndorff@usgs.gov (e-mail).

SUPPLEMENTARY INFORMATION:

I. Abstract

The primary objective of the EDMAP component of the NCGMP is to train the next generation of geologic mappers. To do this, NCGMP provides funds for graduate and selected undergraduate students in academic research projects that involve geologic mapping as a major component. Through these cooperative agreements, NCGMP hopes to expand the research and educational capacity of academic programs that teach earth science students the techniques of geologic mapping and field data analysis. We will accept only one proposal from an individual principal investigator (professor or faculty advisor), although we will accept more than one proposal from a single university if authored by different principal investigators. Although EDMAP awards support student mapping in the field, the student's faculty advisor must write the proposal. All applications must be submitted through Grants.gov.

The primary objective of the STATEMAP component of the NCGMP is to establish the geologic framework of areas determined to be vital to the economic, social, or scientific welfare of individual States. The State geologist determines mapping priorities in consultation with a multi-representational State Mapping Advisory Committee. We will accept only one proposal from each State each fiscal year. Proposals may contain a number of geologic mapping projects and may include one compilation or digitization project, or all projects may be for new mapping if the State chooses. All applications must be submitted through Grants.gov.

II. Data

OMB Control Number: None. This is a new collection.

Title: National Cooperative Geologic Mapping Program (EDMAP and STATEMAP).

Respondent Obligation: Required to obtain or retain a benefit.

Frequency of Collection: Annually.

Estimated Number and Description of Respondents: 101. U.S. accredited university geoscience or related departments are eligible for EDMAP funds. University professors must write and submit the proposals. Only State Geological Surveys are eligible to apply for the STATEMAP component. Since many State Geological Surveys are organized under a State university system, such universities may submit a proposal on behalf of the State Geological Survey.

Estimated Number of Annual Responses: 101.

Estimated Annual Reporting and Recordkeeping “Hour” Burden: 2,020. We expect to receive 55 applications for EDMAP and 46 for STATEMAP, each taking 20 hours to complete. This includes the time for project conception and development, proposal writing and reviewing, and submitting a project narrative through Grants.gov.

Estimated Reporting and Recordkeeping “Non-Hour Cost” Burden: There are no “non-hour cost” burdens associated with this collection of information.

III. Request for Comments

On April 22, 2008, we published a Federal Register notice (73 FR 21646) soliciting comments on the STATEMAP component. The comment period closed on June 23, 2008. On August 26, 2008, we published a Federal Register notice (73 FR 50341) soliciting comments on the EDMAP component. The comment period for this notice closed on October 27, 2008. We did not receive any comments in response to these notices.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at anytime. While you can ask us in your comment to withhold your personal identifying information from public review, we cannot guarantee that we will be able to do so.

Dated: April 7, 2009.
Randall Orndorff,
Associate Program Coordinator, U.S. Geological Survey.

[FR Doc. E9-9092 Filed 4-20-09; 8:45 am]

BILLING CODE 4311-AM-P